DEPARTMENT OF TRANSPORTATION

Federal Aviation Administration

Notice of Passenger Facility Charge (PFC) Approvals and Disapprovals

AGENCY: Federal Aviation Administration (FAA), DOT.

ACTION: Monthly Notice of PFC Approvals and Disapprovals. In June 2008, there were seven applications approved. Additionally, 32 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph (d) of § 158.29.

PFC Applications Approved

Public Agency: City of Des Moines, Iowa.

Application Number: 08-11-C-00-DSM.

Application Type: Impose and use a PFC.

PFC Level: $4.50.

Total PFC Revenue Approved in This Decision: $2,525,646.

Earliest Charge Effective Date: August 1, 2017.

Estimated Charge Experiation Date: January 1, 2018.

Class of Air Carriers not Required to Collect PFC's: Part 135 air taxi/commercial operators.

Determination: Approved. Based on information submitted in the public agency's application, the FAA has determined that the proposed class accounts for less than 1 percent of the total annual enplanements at Des Moines International Airport.

Brief Description of Projects Approved for Collection and Use:

Concourses A and C enhancements.

East cargo pavement reconstruction.

Taxiway P reconstruction.

Snow blower head rebuild/replacement.

Decision Date: June 5, 2008.

FOR FURTHER INFORMATION CONTACT: Jan Monroe, Central Region Airports Division, (816) 329-2635.

Public Agency: City of Worland, Wyoming.

Application Number: 08-02-C-00-WRL.

Application Type: Impose and use a PFC.

PFC Level: $4.50.

Total PFC Revenue Approved in This Decision: $193,038.

Earliest Charge Effective Date: August 1, 2008.

Estimated Charge Experiation Date: July 1, 2022.

Class of Air Carriers Not Required To Collect PFC's: None.

Brief Description of Projects Approved for Collection and Use:

Road and trail relocation, construct spray operations area, extend and widen taxilane.

Reconstruct taxiway A south, grade safety area runway 16/34, Hanover Canal siphon.

Reconstruct taxiway A south, grade extended safety area runway 16/34, extend and widen taxilane.

Reconstruct runway 16/34 south.

Appraisal and hangar purchase costs (schedules I, II, III, and IV).

Relocate obstructions—Highland Hanover Canal and Country Road, phase 2.

Decision Date: June 5, 2008.

FOR FURTHER INFORMATION CONTACT: Chris Schaffer, Denver Airports District Office, (303) 342-1258.

Public Agency: City of Modesto, California.

Application Number: 08-07-C-00-MOD.

Application Type: Impose and use a PFC.

PFC Level: $4.50.

Total PFC Revenue Approved in This Decision: $395,134.

Earliest Charge Effective Date: August 1, 2008.

Estimated Charge Experiation Date: December 1, 2015.

Class of Air Carriers not Required to Collect PFC's: None.

Brief Description of Projects Approved for Collection and Use:

Rehabilitate taxilanes.

Install/upgrade airfield guidance signs.

Improve airport drainage.

Expand/construct parking lot.

Rehabilitate apron.

Conduct Part 150 noise compatibility study.

Miscellaneous planning study.

Procure aircraft rescue and firefighting vehicle.

PFC administrative costs.

Brief Description of Projects Approved for Collection:

General aviation apron rehabilitation.

Enhance runway safety area.

Decision Date: June 6, 2008.

FOR FURTHER INFORMATION CONTACT: Ron Biaoco, San Francisco Airports District Office, (650) 876-2778, extension 626.

Public Agency: County of Okaloosa, Valparaiso, Florida.

Application Number: 08-04-C-00-VPS.

Application Type: Impose and use a PFC.

PFC Level: $4.50.

Total PFC Revenue Approved in This Decision: $1,485,650.

Earliest Charge Effective Date: July 1, 2020.

Estimated Charge Experiation Date: April 1, 2021.

Class of Air Carriers not Required to Collect PFC's: None.

Brief Description of Projects Approved for Collection and Use:

Terminal expansion program.

Acquire interactive training system.

PFC program and administrative costs.

Decision Date: June 6, 2008.

FOR FURTHER INFORMATION CONTACT: Susan Moore, Orlando Airports District Office, (407) 812-6331, extension 120.

Public Agency: Meridian Airport Authority, Meridian, Mississippi.

Application Number: 08-10-C-00-MEI.

Application Type: Impose and use a PFC. PFC Level: $4.50.

Total PFC Revenue Approved in This Decision: $502,500.

Earliest Charge Effective Date: June 1, 2012.

Estimated Charge Experiation Date: August 1, 2017.

Class of Air Carriers not Required to Collect PFC's: None.

Brief Description of Projects Approved for Collection and Use:

Rehabilitate general aviation apron.

Relocate taxiway A.

Acquire security vehicle.

Construct hangar access roads.

Rehabilitate security fencing.

Decision Date: June 6, 2008.

FOR FURTHER INFORMATION CONTACT: Keafur Grimes, Jackson Airports District Office, (601) 664-9886.

Public Agency: County of Marquette, Marquette, Michigan.

Application Number: 08-09-C-00VSAW.

Application Type: Impose and use a PFC.

PFC Level: $4.50.

Total PFC Revenue Approved in This Decision: $852,250.

Earliest Charge Effective Date: August 1, 2008.

Estimated Charge Experiation Date: August 1, 2011.

Class of Air Carriers not Required to Collect PFC's: None.

Brief Description of Projects Approved for Collection and Use:

Runway and taxiway concrete joint repair and slab replacement.

Runway 1, approach rehabilitation, very high frequency omnidirectional range and glideslope access roads.

Aircraft rescue and firefighting/snow removal equipment building alarm system construction and installation.

Snow removal equipment (snow blower).

Airfield lighting—phase 2 (construction).

Pavement maintenance and repairs—runway, taxiways, and aprons.

Airfield lighting (navigation aids utility power study).

Terminal renovation and expansion—phase 1 (design only).

Fencing, security, vehicle access, wildlife control and Transportation Security Administration compliance.

Interactive employee training system.

Terminal building renovation and expansion.

Snow removal anti-icing and deicing equipment.

PFC package application and administration.

Decision Date: June 18, 2009.

FOR FURTHER INFORMATION CONTACT: Matthew Thys, Detroit Airports District Office, (734) 229-2901.

Public Agency: County of Broome, Binghamton, New York.

Application Number: 08-11-C-00-BGM.

Application Type: Impose and use a PFC.

PFC Level: $4.50.

Total PFC Revenue Approved in this Decision: $149,796.

Earliest Charge Effective Date: November 1, 2010.

Estimated Charge Experiation Date: March 1, 2011.

Class of Air Carriers not Required to Collect PFC's:

Non-scheduled/on-demand air carriers filing FAA Form 1900-31.

Determination: Approved. Based on information submitted in the public agency's application, the FAA has determined that the proposed class accounts for less than 1 percent of the total annual enplanements at Greater Binghamton Airport.

Brief Description of Projects Approved for Collection and Use:

Replace runway 16/34 precision approach path indicators.

Storm water management plan.

Snow removal equipment replacement.

Brief Description of Project Aprpoved for Use:

Taxiway rehabilitation! extension construction.

Decision Date: June 18, 2008.

FOR FURTHER INFORMATION CONTACT: Robert Levine, New York Airports District Office, (516) 227-3807.

Amendments to PFC Approvals
Amendment No. city, state | Amendment approved date | Original approved net PFC revenue | Amended approved net PFC revenue | Original estimated charge exp. date | Amended estimated charge exp. date
05-04-C-01-LYH, Lynchburg, VA | 05/27/08 | $1,810,000 | $1,610,000 | 06/01/15 | 06/01/15
98-03-C-03-SJT, San Angelo, TX | 06/03/08 | 830,830 | 437,726 | 08/01/04 | 08/01/04
04-05-C-01-SJT, San Angelo, TX | 06/03/08 | 335,042 | 259,336 | 01/01/06 | 01/01/06
05-06-C-01-SJT, San Angelo, TX | 06/03/08 | 200,000 | 217,044 | 11/01/06 | 11/01/06
06-07-C-01-SJT, San Angelo, TX | 06/03/08 | 1,568,947 | 1,477,361 | 09/01/12 | 09/01/12
99-05-C-01-MOD, Modesto, CA | 06/06/08 | 154,750 | 107,637 | 09/01/01 | 09/01/01
01-06-C-01-MOD, Modesto, CA | 06/06/08 | 124,180 | 65,871 | 03/01/05 | 03/01/05
04-11-C-02-BNA, Nashville, TN | 06/06/08 | 79,614,555 | 75,873,967 | 12/01/09 | 08/01/09
06-12-0-01-BNA, Nashville, TN | 06/06/08 | 21,671,262 | 21,671,262 | 02/01/11 | 02/01/11
97-06-l-03-BDL, Windsor Locks, CT | 06/09/08 | 15,019,913 | 15,038,863 | 02/01/99 | 02/01/99
99-08-U-02-BDL, Windsor Locks, CT | 06/09/08 | NA | NA | 02/01/99 | 02/01/99
99-09-l-01-BDL, Windsor Locks, CT | 06/09/08 | 4,400,000 | 4,557,854 | 07/01/00 | 07/01/00
01-13-U-01-BDL, Windsor Locks, CT | 06/09/08 | NA | NA | 07/01/00 | 07/01/00
06-05-C-02-RDM, Redmond, OR | 06/12/08 | 1,229,416 | 1,148,690 | 05/01/08 | 07/01/08
*97-01-C-04-SDF, Louisville, KY | 06/16/08 | 90,600,000 | 90,600,000 | 09/01/14 | 03/01/14
06-04-C-02-SDF, Louisville, KY | 06/16/08 | 1,267,315 | 1,267,315 | 05/01/18 | 10/01/17
97-01-C-01-AHN, Athens, GA | 06/18/08 | 187,628 | 165,615 | 01/01/02 | 01/01/02
98-08-C-01-MHT, Manchester, NH | 06/18/08 | 3,088,148 | 3,033,074 | 2/01/16 | 02/01/16
01-09-C-01-MHT, Manchester, NH | 06/18/08 | 700,000 | 678,332 | 04/01/16 | 03/01/16
99-04-C-04-ILE, Killeen, TX | 06/18/08 | 3,157,544 | 3,104,371 | 12/01/05 | 12/01/05
01-05-C-02-ILE, Killeen, TX | 06/18/08 | 30,000 | 26,839 | 01/01/06 | 01/01/06
97-05-l-01-PLN, Pellston, MI | 06/19/08 | 16,250 | 19,361 | 09/01/97 | 09/01/97
99-08-U-02-PLN, Pellston, MI | 06/19/08 | NA | NA | 09/01/97 | 09/01/97
98-07-l-03-PLN, Pellston, MI | 06/19/08 | 97,089 | 79,747 | 08/01/02 | 06/01/02
01-09-C-02-PLN, Pellston, MI | 06/19/08 | 708,506 | 708,506 | 08/01/02 | 06/01/02
01-09-C-03-PLN, Pellston, MI | 06/19/08 | 708,506 | 799,792 | 07/01/11 | 07/01/11
95-02-C-03-EWR, New York, NY | 06/20/08 | 329,343,000 | 335,401,500 | 11/01/01 | 11/01/01
96-03-U-02-EWR, New York, NY | 06/20/08 | NA | NA | 11/01/01 | 11/01/01
95-02-C-03-JFK, New York, NY | 06/20/08 | 307,600,500 | 314,523,500 | 11/01/01 | 11/01/01
96-03-U-02-JFK, New York, NY | 06/20/08 | NA | NA | 11/01/01 | 11/01/01
95-02-C-03-LGA, New York, NY | 06/20/08 | 248,056,500 | 252,575,000 | 11/01/01 | 11/01/01
96-03-U-02-LGA, New York, NY | 06/20/08 | NA | NA | 11/01/01 | 11/01/01
Note: The amendment denoted by an asterisk (*) includes a change to the PFC level charged from $3.00 per enplaned passenger to $4.50 per enplaned passenger. For Louisville, KY, this change is effective on September 1, 2008.

Issued in Washington, DC on July 3, 2008.
Joe Hebert,
Manager, Financial Analysis and Passenger Facility Charge Branch.

[FR Doc. E8-15958 Filed 7-16-08; 8:45 am]

BILLING CODE 4910-13-M